DEPARTMENT OF ENERGY

[FE Docket Nos. 04-87-NG; 04-93-NG; 04-95-LNG; 04-92-NG; 04-98-NG; 04-96-NG; 04-100-NG; 04-105-NG; 04-103-NG; 04-99-NG; 04-109-NG; 04-110-NG; 04-102-NG; 04-94-NG; 04-97-NG; 04-94-NG; 04-112-NG]

Boise White Paper, L.L.C.; Transcanada Energy Ltd.; Duke Energy LNG Marketing and Management Company; Virginia Power Energy Marketing, Inc.; Pioneer Natural Resources Canada Inc.; Petrocom Ventures, Ltd.; Pasadena Water and Power; Constellation Energy Commodities Group, Inc.; Astra Power, LLC; Glendale Water and Power; WPS Energy Services, Inc.; WPS Energy Services of Canada Corp.; Connecticut Natural Gas Corporation; Hunt Oil Company of Canada, Inc.; Kanebi Inc.; Hunt Oil Company of Canada, Inc.; Regent Resources Ltd.; Office of Fossil Energy; Orders Granting Authority To Import and Export Natural Gas, Including Liquefied Natural Gas

AGENCY: Office of Fossil Energy, DOE.

ACTION: Notice of orders.

SUMMARY: The Office of Fossil Energy (FE) of the Department of Energy gives notice that during October 2004, it issued Orders granting authority to import and export natural gas, including liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on November 16, 2004.
R.F. Corbin,
Manager, Natural Gas Regulation, Office of Natural Gas Regulatory Activities, Office of Fossil Energy.

Appendix—Orders Granting Import/Export Authorizations
[DOE/FE Authority]
Order No. | Date issued | Importer/Exporter FE docket No. | Import volume | Export volume | Comments
2023 | 10-7-04 | Boise White Paper, L.L.C. 04-87-NG | 10 Bcf |  | Import and export a combined total of natural gas from and to Canada, beginning on November 1, 2004, and extending through October 31, 2006.
2024 | 10-14-04 | TransCanada Energy Ltd. 04-93-NG | 700 Bcf | 300 Bcf | Import and export natural gas from and to Canada, beginning on November 1, 2004, and extending through October 31, 2006.
2025 | 10-14-04 | Duke Energy LNG Marketing and Management company 04-95-LNG | 700 Bcf |  | Import LNG from various international sources, beginning on October 4, 2004, and extending through October 3, 2006.
2026 | 10-18-04 | Virginia Power Energy Marketing, Inc. 04-92-NG | 100 Bcf |  | Import and export a combined total of natural gas from and to Canada, beginning on July 1, 2004, and extending through June 30, 2006.
2027 | 10-27-04 | Pioneer Natural Resources Canada Inc. 04-98-NG | 77 Bcf |  | Import natural gas from Canada, beginning on October 30, 2004, and extending through October 29, 2006.
2028 | 10-27-04 | Petrocom Ventures, Ltd. 04-96-NG | 73 Bcf 73 Bcf | 73 Bcf 73 Bcf | Import and export natural gas from and to Canada and Mexico, beginning on November 1, 2004, and extending through October 31, 2006.
2029 | 10-27-04 | Pasadena Water and Power 04-100-NG | 3.8 Bcf |  | Import natural gas from Canada, beginning on November 1, 2004, and extending through October 31, 2006.
2030 | 10-27-04 | Constellation Energy Commodities Group, Inc | 400 Bcf |  | Import and export a combined total of natural gas from and to Canada, beginning on November 1, 2004, and extending through October 31, 2006.
2031 | 10-27-04 | Astra Power, LLC 04-103-NG | 146 Bcf | 146 Bcf | Import and export natural gas from and to Canada, beginning on November 1, 2004, and extending through October 31, 2006.
2032 | 10-28-04 | Glendale Water and Power 04-99-NG | 3.8 Bcf |  | Import natural gas from Canada, beginning on November 1, 2004, and extending through October 31, 2006.
2033 | 10-28-04 | WPS Energy Services, Inc. 04-109-NG | 100 Bcf | 100 Bcf | Import and export natural gas from and to Canada, beginning on November 1, 2004, and extending through October 31, 2006.
2034 | 10-28-04 | WPS Energy Services of Canada Corp. 04-110-NG | 100 Bcf | 100 Bcf | Import and export natural gas from and to Canada, beginning on November 1, 2004, and extending through October 31, 2006.
2035 | 10-28-04 | Connecticut Natural Gas Corporation 04-102-NG | 19 Bcf |  | Import natural gas from Canada, beginning on November 1, 2004, and extending through October 31, 2006.
2036 | 10-28-04 | Kanebi Inc. 04-97-NG | 20 Bcf |  | Import natural gas from Canada, beginning on December 20, 2004, and extending through December 19, 2006.
2037 | 10-28-04 | Hunt Oil Company of Canada, Inc. 04-94-NG | 6 Bcf |  | Import natural gas from Canada, beginning on December 1, 2004, and extending through November 31, 2006.
2038 | 10-28-04 | Regent Resources Ltd. 04-112-NG | 15 Bcf |  | Import natural gas from Canada, beginning on October 22, 2004, and extending through October 21, 2006.

[FR Doc. 04-25912 Filed 11-22-04; 8:45 am]

BILLING CODE 6450-01-P